DEPARTMENT OF HOMELAND SECURITY

Federal Emergency Management Agency

[Docket ID FEMA-2015-0001; Internal Agency Docket No. FEMA-B-1514]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: May 21, 2015.
Roy E. Wright,
Deputy Associate Administrator for Mitigation, Department of Homeland Security, Federal Emergency Management Agency.

State and county | Location and case No. | Chief executive officer of community | Community map repository | Online location of letter of map revision | Effective date of modification | Community No.
Alabama:
Washington | Town of McIntosh (15-04-1284P) | The Honorable Wilbert Dixon, Mayor, Town of McIntosh, P.O. Box 351, McIntosh, AL 36553 | Town Hall, 206 Commerce Street, McIntosh, AL 36553 | http://www.msc.fema.gov/lomc | Jul. 27, 2015 | 010525
Washington | Unincorporated areas of Washington County (15-04-1284P) | The Honorable Allen Bailey, Chairman, Washington County Board of Commissioners, P.O. Box 146, Chatom, AL 36518 | Washington County Engineering Department, 45 Court Street, Chatom, AL 36518 | http://www.msc.fema.gov/lomc | Jul. 27, 2015 | 010302
Jefferson | City of Birmingham (14-04-9133P) | The Honorable William A. Bell, Sr., Mayor, City of Birmingham, 710 North 20th Street, Birmingham, AL 35203 | Planning and Engineering Department, 710 North 20th Street, Birmingham, AL 35203 | http://www.msc.fema.gov/lomc | Jul. 20, 2015 | 010116
Jefferson | City of Irondale (14-04-9133P) | The Honorable Tommy J. Alexander, Mayor, City of Irondale, P.O. Box 100188, Irondale, AL 35210 | City Hall, 101 20th Street South, Irondale, AL 35210 | http://www.msc.fema.gov/lomc | Jul. 20, 2015 | 010124
Jefferson | City of Mountain Brook (14-04-9133P) | The Honorable Lawrence T. Oden, Mayor, City of Mountain Brook, P.O. Box 130009, Mountain Brook, AL 35213 | City Hall, 3928 Montclair Road, Mountain Brook, AL 35213 | http://www.msc.fema.gov/lomc | Jul. 20, 2015 | 010128
Jefferson | Unincorporated areas of Jefferson County (14-04-9133P) | The Honorable Jimmie Stephens, Chairman, Jefferson County Commission, 716 Richard Arrington Jr. Boulevard North, Birmingham, AL 35203 | Jefferson County Land Development Department, 716 Richard Arrington Jr. Boulevard North, Birmingham, AL 35203 | http://www.msc.fema.gov/lomc | Jul. 20, 2015 | 010217
Montgomery | Town of Pike Road (14-04-9699P) | The Honorable Gordon Stone, Mayor, Town of Pike Road, 9575 Vaughan Road, Pike Road, AL 36064 | Town Hall, 9575 Vaughan Road, Pike Road, AL 36064 | http://www.msc.fema.gov/lomc | Jul. 10, 2015 | 010433
Montgomery | Unincorporated areas of Montgomery County (14-04-9699P) | The Honorable Elton N. Dean, Sr., Chairman, Montgomery County Commission, P.O. Box 1667, Montgomery, AL 36102 | Montgomery County Engineering Department, 100 South Lawrence Street, Montgomery, AL 36104 | http://www.msc.fema.gov/lomc | Jul. 10, 2015 | 010278
Arizona: Maricopa | City of Phoenix (15-09-0681P) | The Honorable Greg Stanton, Mayor, City of Phoenix, 200 West Washington Street, Phoenix, AZ 85003 | Street Transportation Department, 200 West Washington Street, 5th Floor, Phoenix, AZ 85345 | http://www.msc.fema.gov/lomc | Jul. 31, 2015 | 040051
California: Los Angeles | City of Los Angeles (15-09-0550P) | The Honorable Eric Garcetti, Mayor, City of Los Angeles, 200 North Spring Street, Los Angeles, CA 90012 | Public Works Department, 1149 South Broadway, Suite 810, Los Angeles, CA 90015 | http://www.msc.fema.gov/lomc | Jul. 27, 2015 | 060137
Colorado:
Arapahoe | City of Aurora (14-08-0918P) | The Honorable Steve Hogan, Mayor, City of Aurora, 15151 East Alameda Parkway, Aurora, CO 80012 | City Hall, 15151 East Alameda Parkway, Aurora, CO 80012 | http://www.msc.fema.gov/lomc | Jul. 10, 2015 | 080002
Eagle | Unincorporated areas of Eagle County (14-08-1086P) | The Honorable Kathy Chandler-Henry, Chair, Eagle County Board of Commissioners, P.O. Box 850, Eagle, CO 81631 | Eagle County Building and Engineering Department, 500 Broadway Street, Eagle, CO 81631 | http://www.msc.fema.gov/lomc | Aug. 7, 2015 | 080051
El Paso | City of Colorado Springs (15-08-0177P) | The Honorable Steve Bach, Mayor, City of Colorado Springs, 30 South Nevada Avenue, Colorado Springs, CO 80903 | City Administration, 30 South Nevada Avenue, Colorado Springs, CO 80903 | http://www.msc.fema.gov/lomc | Jul. 27, 2015 | 080060
Fremont | City of Canon City (14-08-0930P) | The Honorable Tony Greer, Mayor, City of Canon City, 901 Main Street, Canon City, CO 81212 | City Hall, 128 Main Street, Canon City, CO 81212 | http://www.msc.fema.gov/lomc | Aug. 3, 2015 | 080068
Fremont | Unincorporated areas of Fremont County (14-08-0930P) | The Honorable Ed Norden, Chairman, Fremont County Board of Commissioners, 615 Macon Avenue, Room 105, Canon City, CO 81212 | Fremont County Administrator, 615 Macon Avenue, Canon City, CO 81212 | http://www.msc.fema.gov/lomc | Aug. 3, 2015 | 080067
La Plata | Unincorporated areas of La Plata County (14-08-1382P) | The Honorable Julie Westendorff, Chair, La Plata County Board of Commissioners, 1060 East 2nd Avenue, Durango, CO 81301 | La Plata County Administration Office, 1060 East 2nd Avenue, Durango, CO 81301 | http://www.msc.fema.gov/lomc | Jul. 10, 2015 | 080097
Florida:
Collier | City of Marco Island (14-04-6846P) | The Honorable Lawrence Sacher, Chairman, City of Marco Island Council, 50 Bald Eagle Drive, Marco Island, FL 34145 | City Hall, 50 Bald Eagle Drive, Marco Island, FL 34145 | http://www.msc.fema.gov/lomc | Jun. 19, 2015 | 120426
Lee | Unincorporated areas of Lee County (15-04-2532P) | The Honorable Brian Hamman, Chairman, Lee County Board of Commissioners, P.O. Box 398, Fort Myers, FL 33902 | Lee County Community Development Department, 1500 Monroe Street, 2nd Floor, Fort Meyers, FL 33901 | http://www.msc.fema.gov/lomc | Jul. 31, 2015 | 125124
Manatee | City of Bradenton (15-04-1364P) | The Honorable Wayne H. Poston, Mayor, City of Bradenton, 101 Old Main Street West, Bradenton, FL 34205 | City Hall, 101 Old Main Street West, Bradenton, FL 34205 | http://www.msc.fema.gov/lomc | Jul. 14, 2015 | 120155
Manatee | City of Holmes Beach (15-04-1453P) | The Honorable Bob Johnson, Mayor, City of Holmes Beach, 5801 Marina Drive, Holmes Beach, FL 34217 | City Hall, 5801 Marina Drive, Holmes Beach, FL 34217 | http://www.msc.fema.gov/lomc | Jun. 25, 2015 | 125114
Manatee | Unincorporated areas of Manatee County (15-04-1364P) | The Honorable Betsy Benac, Chair, Manatee County Board of Commissioners, P.O. Box 1000, Bradenton, FL 34206 | Manatee County Building and Development Services Department, 1112 Manatee Avenue West, Bradenton, FL 34205 | http://www.msc.fema.gov/lomc | Jul. 14, 2015 | 120153
Manatee | Unincorporated areas of Manatee County (15-04-1453P) | The Honorable Betsy Benac, Chair, Manatee County Board of Commissioners, P.O. Box 1000, Bradenton, FL 34206 | Manatee County Building and Development Services Department, 1112 Manatee Avenue West, Bradenton, FL 34205 | http://www.msc.fema.gov/lomc | Jun. 25, 2015 | 120153
Manatee | Unincorporated areas of Manatee County (15-04-A642P) | The Honorable Betsy Benac, Chair, Manatee County Board of Commissioners, P.O. Box 1000, Bradenton, FL 34206 | Manatee County Building and Development Services Department, 1112 Manatee Avenue West, Bradenton, FL 34205 | http://www.msc.fema.gov/lomc | Jul. 3, 2015 | 120153
Miami-Dade | City of Sunny Isles Beach (15-04-0303P) | The Honorable George “Bud” Scholl, Mayor, City of Sunny Isles Beach, 18070 Collins Avenue, Sunny Isles Beach, FL 33160 | City Hall, 18070 Collins Avenue, Sunny Isles Beach, FL 33160 | http://www.msc.fema.gov/lomc | Jul. 3, 2015 | 120688
Monroe | Unincorporated areas of Monroe County (15-04-1298P) | The Honorable Danny Kolhage, Mayor, Monroe County, 1100 Simonton Street, Key West, FL 33040 | Monroe County Department of Planning and Environmental Resources, 2798 Overseas Highway, Marathon, FL 33050 | http://www.msc.fema.gov/lomc | Jul. 10, 2015 | 125129
Monroe | Unincorporated areas of Monroe County (15-04-1517P) | The Honorable Danny Kolhage, Mayor, Monroe County, 1100 Simonton Street, Key West, FL 33040 | Monroe County Department of Planning and Environmental Resources, 2798 Overseas Highway, Marathon, FL 33050 | http://www.msc.fema.gov/lomc | Jul. 14, 2015 | 125129
St. Johns | Unincorporated areas of St. Johns County (14-04-A710P) | The Honorable Rachael L. Bennett, Chair, St. Johns County Board of Commissioners, 500 San Sebastian View, St. Augustine, FL 32084 | St. Johns County Administration, 4040 Lewis Speedway, St. Augustine, FL, 32084 | http://www.msc.fema.gov/lomc | Jul. 15, 2015 | 125147
Seminole | Unincorporated areas of Seminole County (14-04-AB49P) | The Honorable Bob Dallari, Chairman, Seminole County Board of Commissioners, 1101 East 1st Street, Sanford, FL 32771 | Seminole County Manager, 1101 East 1st Street, Sanford, FL 32771 | http://www.msc.fema.gov/lomc | Jul. 10, 2015 | 120289
Pinellas | City of Dunedin (14-04-A013P) | The Honorable Julie Ward Bojalski, Mayor, City of Dunedin, 542 Main Street, Dunedin, FL 34697 | Engineering Department, 542 Main Street, Dunedin, FL 34697 | http://www.msc.fema.gov/lomc | Jul. 10, 2015 | 125103
Pinellas | City of Madeira Beach (14-04-8328P) | The Honorable Travis Palladeno, Mayor, City of Madeira Beach, 300 Municipal Drive, Madeira Beach, FL 33708 | Building Department, 300 Municipal Drive, Madeira Beach, FL 33708 | http://www.msc.fema.gov/lomc | Jul. 3, 2015 | 125127
Georgia: Cobb | Unincorporated areas of Cobb County (14-04-6997P) | The Honorable Tim Lee, Chairman, Cobb County Board of Commissioners, 100 Cherokee Street, Marietta, GA 30090 | Cobb County Water System, 680 South Cobb Drive, Marietta, GA 30060 | http://www.msc.fema.gov/lomc | Jul. 13, 2015 | 130052
Kentucky:
Fayette | Lexington-Fayette Urban County Government (14-04-2813P) | The Honorable Jim Gray, Mayor, Lexington-Fayette Urban County Government, 200 East Main Street, Lexington, KY 40507 | Lexington-Fayette Urban County Government Center, 200 East Main Street, 12th Floor, Lexington, KY 40507 | http://www.msc.fema.gov/lomc | Jul. 21, 2015 | 210067
Hardin | City of Elizabethtown (14-04-6996P) | The Honorable Edna Berger, Mayor, City of Elizabethtown, P.O. Box 550, Elizabethtown, KY 42702 | City Hall, 200 West Dixie Avenue, Elizabethtown, KY 42702 | http://www.msc.fema.gov/lomc | Jul. 2, 2015 | 210095
North Carolina:
Guilford | City of Greensboro (14-04-7717P) | The Honorable Nancy Vaughan, Mayor, City of Greensboro, P.O. Box 3136, Greensboro, NC 27402 | Central Library, 219 North Church Street, Greensboro, NC 27401 | http://www.msc.fema.gov/lomc | Jul. 7, 2015 | 375351
Guilford | Unincorporated areas of Guilford County (14-04-7717P) | The Honorable Hank Henning, Chairman, Guilford County Board of Commissioners, P.O. Box 3427, Greensboro, NC 27402 | Independent Center, 400 West Market Street, Greensboro, NC 27402 | http://www.msc.fema.gov/lomc | Jul. 7, 2015 | 370111
Haywood | Unincorporated Areas of Haywood County (14-04-8009P) | The Honorable Mark S. Swanger, Chairman, Haywood County Board of Commissioners, 215 North Main Street, Waynesville, NC 28786 | Haywood County Planning Division, 157 Paragon Parkway, Suite 200, Clyde, NC 28721 | http://www.msc.fema.gov/lomc | Jul. 16, 2015 | 370120
Nevada: Clark | City of North Las Vegas (15-09-0456P) | The Honorable John J. Lee, Mayor, City of North Las Vegas, 2250 Las Vegas Boulevard North, North Las Vegas, NV 89030 | Public Works Department, 2200 Civic Center Drive, North Las Vegas, NV 89030 | http://www.msc.fema.gov/lomc | Jul. 27, 2015 | 320007

[FR Doc. 2015-13860 Filed 6-5-15; 8:45 am]

BILLING CODE 9110-12-P